DEPARTMENT OF DEFENSE

Corps of Engineers, Department of the Army

Withdrawal of Notice of Intent to Prepare an Environmental Impact Statement for the Chuitna Coal Mine Project, Alaska

AGENCY: Department of the Army, U.S. Army Corps of Engineers, DoD.

ACTION: Notice of intent; withdrawal.

SUMMARY: In accordance with the National Environmental Policy Act (NEPA), on January 4, 2011, the Alaska District, U.S. Army Corps of Engineers (Corps) initiated the Supplemental Environmental Impact Statement (EIS) process to identify and analyze potential impacts associated with the proposed Chuitna Coal Mine Project to assist in evaluating a Department of the Army permit application pursuant to Section 404 of the Clean Water Act and Section 10 of the Rivers and Harbors Act of 1899. On March 30, 2017, the applicant announced its decision to suspend pursuit of permitting efforts on the project. Therefore, the Corps is terminating the EIS process, and is withdrawing the Notice of Intent published in the Tuesday, January 4, 2011, issue of the Federal Register.

ADDRESSES: U.S. Army Corps of Engineers, CEPOA-RD, Post Office Box 6898, JBER, Alaska 99506-0898.

FOR FURTHER INFORMATION CONTACT: Questions regarding this action can be addressed by Jason Berkner, Regulatory Division, by telephone: (907) 753-5778 (toll free from within Alaska: (800) 478-2712), by fax: (907) 753-5567, by email: Jason.R.Berkner@usace.army.mil, or by mail: U.S. Army Corps of Engineers, CEPOA-RD, Post Office Box 6898, JBER, Alaska 99506-0898.

SUPPLEMENTARY INFORMATION: PacRim Coal, LP, requested Corps authorization, under Section 404 of the Clean Water Act and Section 10 of the Rivers and Harbors Act of 1899, to develop the Chuitna Coal Project (Project), which was comprised of three components; the mine site, the project infrastructure, and the marine port. The Project consisted of mining a 5,050-acre lease tract with coal reserves of approximately 300 million tons of sub-bituminous ultra-low sulfur coal. The Project, as proposed, would have resulted in the discharge of dredged and/or fill material into an approximate total of 2,550 acres of waters of the U.S., including wetlands, 26 miles of streams, and marine waters. Due to the potentially significant environmental effects associated with the Project, on January 4, 2011, the Corps issued a Notice of Intent to Prepare an EIS (76 FR 336). The EIS would have also assessed issues related to the Alaska Surface Coal Mining Control and Reclamation Act (ASCMCRA) permit, which governs all aspects of the coal mining operation and infrastructure. On November 2, 2016, the Corps administratively withdrew the PacRim Coal, LP application for the Project pending State of Alaska's completeness determination on the ASCMCRA application. A complete ASCMCRA application would have confirmed availability of the information required by the Corps to enable informed public comment and review of the DA permit application, and development of the EIS. On March 30, 2017, the applicant announced its decision to suspend pursuit of permitting efforts on the Project. Therefore, in accordance with Corps regulations at 33 CFR part 230, Appendix C(2) and 33 CFR part 325, Appendix B(g), the Corps is terminating the EIS process, and is withdrawing the January 4, 2011, notice of intent to prepare an EIS for the proposal.

Dated: June 19, 2017.
Sheila Newman,
Chief, Special Actions Branch.

[FR Doc. 2017-13505 Filed 6-27-17; 8:45 am]

BILLING CODE 3720-58-P